DEPARTMENT OF DEFENSE

Department of the Navy

Meeting of the Secretary of the Navy Advisory Panel

AGENCY: Department of the Navy, DoD.

ACTION: Notice of partially closed meeting.

SUMMARY: The Secretary of the Navy Advisory Panel (SECNAV Advisory Panel) will deliberate the findings and recommendations for the Department of the Navy's Energy program and Asia/Pacific Engagement topic.

DATES: The meeting will be held on October 13, 2010, from 8 a.m. to 4:30 p.m.

With the exception of the Chairman's, Designated Federal Officer, Energy briefings, Public Comment, and the Energy Study deliberation (8 a.m.-12 p.m.), all other meeting sessions will be closed.

ADDRESSES: The meeting will be held at the Pentagon in the N89 Conference Room, located in room 4D447.

Access: Public access is limited due to the Pentagon security requirements. Members of the public wishing to attend will need to contact Commander Cary Knox at 703-693-0463 or Commander Marc Gage at 703-695-3042 no later than October 6, 2010, and provide their name, date of birth and Social Security number. Public transportation is recommended as public parking is not available. Members of the public wishing to attend this event must enter through the Pentagon's Metro Entrance between 7 a.m. and 7:30 a.m. where they will need two forms of identification in order to receive a visitors badge and meet their escort.

Members will then be escorted to the N89 Conference Room to attend the open sessions of the SECNAV Advisory Panel. Members of the public shall remain with their designated escorts at all times while on the Pentagon Reservation. Members of the public will be escorted back to the Pentagon Metro Entrance at 12 p.m. unless prior coordination is made to leave earlier.

FOR FURTHER INFORMATION CONTACT: Captain Jon Kaufmann, Designated Federal Officer, SECNAV Advisory Panel, Office of Program Appraisal, 1000 Navy Pentagon, Washington, DC 20350, 703-695-3032.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the SECNAV has determined in writing that the public interest requires that portions of this meeting be closed to the public because they will be concerned with matters listed in section 552b(c)(1), of title 5, United States Code.

Individuals or interested groups may submit written statements for consideration by the SECNAV Advisory Panel at any time or in response to the agenda of a scheduled meeting. All requests must be submitted to the Designated Federal Officer at the address detailed below.

If the written statement is in response to the agenda mentioned in this meeting notice then the statement, if it is to be considered by the SECNAV Advisory Panel for this meeting, must be received at least five days prior to the meeting in question.

The Designated Federal Officer will review all timely submissions with the SECNAV Advisory Panel Chairperson, and ensure they are provided to members of the SECNAV Advisory Panel before the meeting that is the subject of this notice.

To contact the Designated Federal Officer, write to: Designated Federal Officer, SECNAV Advisory Panel, Office of Program and Process Assessment 1000 Navy Pentagon, Washington, DC 20350, 703-697-9154.

Dated: September 17, 2010.
D. J. Werner,
Lieutenant Commander, Office of the Judge Advocate General, U.S. Navy, Federal Register Liaison Officer.

[FR Doc. 2010-23855 Filed 9-22-10; 8:45 am]

BILLING CODE 3810-FF-P